DEPARTMENT OF COMMERCE

International Trade Administration

Initiation of Antidumping and Countervailing Duty Administrative Reviews

AGENCY: Enforcement and Compliance, International Trade Administration, Department of Commerce.

SUMMARY: The Department of Commerce (“the Department”) has received requests to conduct administrative reviews of various antidumping and countervailing duty orders and findings with November anniversary dates. In accordance with the Department's regulations, we are initiating those administrative reviews.

DATES: Effective January 13, 2017.

FOR FURTHER INFORMATION CONTACT: Brenda E. Waters, Office of AD/CVD Operations, Customs Liaison Unit, Enforcement and Compliance, International Trade Administration, U.S. Department of Commerce, 1401 Constitution Avenue NW., Washington, DC 20230, telephone: (202) 482-4735.

SUPPLEMENTARY INFORMATION:

Background

The Department has received timely requests, in accordance with 19 CFR 351.213(b), for administrative reviews of various antidumping and countervailing duty orders and findings with November anniversary dates.

All deadlines for the submission of various types of information, certifications, or comments or actions by the Department discussed below refer to the number of calendar days from the applicable starting time.

Notice of No Sales

If a producer or exporter named in this notice of initiation had no exports, sales, or entries during the period of review (“POR”), it must notify the Department within 30 days of publication of this notice in the Federal Register. All submissions must be filed electronically at http://access.trade.gov in accordance with 19 CFR 351.303.¹ Such submissions are subject to verification in accordance with section 782(i) of the Tariff Act of 1930, as amended (“the Act”). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews initiated pursuant to requests made for the orders identified below, the Department intends to select respondents based on U.S. Customs and Border Protection (“CBP”) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (“Q&V”) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than November 30, 2017.

| Period to be reviewed
Antidumping Duty Proceedings
Indonesia: Monosodium Glutamate, A-560-826 | 11/1/15-10/31/16
PT Cheil Jedang Indonesia
Mexico: Certain Circular Welded Non-Alloy Steel Pipe, A-201-805 | 11/1/15-10/31/16
Abastecedora y Perfiles y Tubos, S.A. de C.V.
Conduit, S.A. de C.V.
Lamina y Placa Comercial, S.A. de C.V.
Regiomontana de Perfiles y Tubos S.A. de C.V.
Maquilacero S.A. de C.V.
Mueller Comercial de Mexico, S. de R.L. de C.V.
Productos Laminados de Monterrey S.A. de C.V.
Pytco, S.A. de C.V.
Ternium Mexico, S.A. de C.V.
Tuberia Nacional, S.A. de C.V.
Villacero
Mexico: Steel Concrete Reinforcing Bar, A-201-844 | 11/1/15-10/31/16
Deacero S.A.P.I. de C.V.
Grupo Acerero S.A. de C.V.
Grupo Simec
Orge S.A. de C.V.
Industrias CH
Ternium Mexico, S.A. de C.V.
ArcelorMittal Lazaro Cardenas S.A. de C.V.
Cia Siderurgica De California, S.A. de C.V.
Siderurgica Tultitlan S.A. de C.V.
Talleres y Aceros, S.A. de C.V
Grupo Villacero S.A. de C.V.
AceroMex S.A.
ArcelorMittal Celaya
ArcelorMittal Cordoba S.A. de C.V.
Republic of Korea: Certain Circular Welded Non-Alloy Steel Pipe, A-580-809 | 11/1/15-10/31/16
AJU Besteel
Husteel Co., Ltd.
Hyundai HYSCO
Hyundai Steel Company ⁴
NEXTEEL
SeAH Steel Corporation
The People's Republic of China: Diamond Sawblades and Parts Therof, A-570-900 | 11/1/15-10/31/16
ASHINE Diamond Tools Co., Ltd.
Bosun Tools Co., Ltd.
Chengdu Huifeng Diamond Tools Co., Ltd.
Danyang City Ou Di Ma Tools Co., Ltd.
Danyang Hantronic Import & Export Co., Ltd.
Danyang Huachang Diamond Tools Manufacturing Co., Ltd.
Danyang Like Tools Manufacturing Co., Ltd.
Danyang NYCL Tools Manufacturing Co., Ltd.
Danyang Tsunda Diamond Tools Co., Ltd.
Danyang Weiwang Tools Manufacturing Co., Ltd.
Guilin Tebon Superhard Material Co., Ltd.
Hangzhou Deer King Industrial and Trading Co., Ltd.
Hangzhou Kingburg Import & Export Co., Ltd.
Hebei XMF Tools Group Co., Ltd.
Henan Huanghe Whirlwind Co., Ltd.
Henan Huanghe Whirlwind International Co., Ltd.
Hong Kong Hao Xin International Group Limited
Husqvarna (Hebei) Co., Ltd.
Huzhou Gu's Import & Export Co., Ltd.
Jiangsu Fengtai Diamond Tool Manufacture Co., Ltd.⁵
Jiangsu Fengtai Tools Co., Ltd.⁶
Jiangsu Huachang Tools Manufacturing Co., Ltd.
Jiangsu Inter-China Group Corporation
Jiangsu Youhe Tool Manufacturer Co., Ltd.
Orient Gain International Limited
Pantos Logistics (HK) Company Limited
Pujiang Talent Diamond Tools Co., Ltd.
Qingdao Hyosung Diamond Tools Co., Ltd.
Qingdao Shinhan Diamond Industrial Co., Ltd.
Qingyuan Shangtai Diamond Tools Co., Ltd.
Quanzhou Zhongzhi Diamond Tool Co., Ltd.
Rizhao Hein Saw Co., Ltd.
Saint-Gobain Abrasives (Shanghai) Co., Ltd.
Shanghai Jingquan Industrial Trade Co., Ltd.
Shanghai Starcraft Tools Company Limited
Sino Tools Co., Ltd.
Weihai Xiangguang Mechanical Industrial Co., Ltd.
Wuhan Wanbang Laser Diamond Tools Co., Ltd.
Xiamen ZL Diamond Technology Co., Ltd.
Zhejiang Wanli Tools Group Co., Ltd.
The People's Republic of China: Fresh Garlic, A-570-831 | 11/1/15-10/31/16
China Union Agri. (Qingdao) Co., Ltd.
Hebei Golden Bird Trading Co., Ltd.
Jining Alpha Food Co., Ltd.
Jinan Farmlady Trading Co., Ltd.
Jining Shengtai Fruits & Vegetables Co., Ltd.
Jining Shunchang Import & Export Co., Ltd.
Jining Yifa Garlic Produce Co., Ltd.
Jining Yongjia Trade Co., Ltd.
Jinxiang Hejia Co., Ltd.
Jinxiang Jinma Fruits Vegetables Products Co., Ltd.
Jinxiang Shengtai Fruits & Vegetables Co., Ltd.
Jining Shunchang Import & Export Co., Ltd.
Jinxiang Feiteng Import & Export Co., Ltd.
Jinxiang Richfar Fruits & Vegetables Co., Ltd.
Juxian Huateng Food Co., Ltd.
Juxian Huateng Organic Ginger Co., Ltd.
Qingdao Hailize (Sea-line) International Trading Co., Ltd.
Qingdao Jiashan Trading Co., Ltd.
Qingdao Jiuyihongrun Foods Co., Ltd.
Qingdao Joinseafoods
Qingdao Lianghe International Trade Co., Ltd.
Qingdao Ritai Food Co., Ltd.
Qingdao Sea-line International Trading Co., Ltd.
Qingdao Tiantaixing Foods Co., Ltd.
Qingdao Xintianfeng Foods Co., Ltd.
Shandong Helu International Trade Co., Ltd.
Shandong Jinxiang Zhengyang Import & Export Co., Ltd.
Shenzhen Bainong Co., Ltd.
Shenzhen Xinboda Industrial Co., Ltd.
Shijiazhuang Goodman Trading Co., Ltd.
Weifang Hongqiao International Logistics Co., Ltd.
Weifang Wangyuan Food Co., Ltd.
Zhengzhou Harmoni Spice Co., Ltd.
Zhengzhou Yudishengjin Agricultural Trade Co., Ltd.
Zhengzhou Yudishengjin Farm Products Co., Ltd.
Zhonglian Nongchan Co., Ltd.
The People's Republic of China: Lightweight Thermal Paper, A-570-920 | 11/1/15-10/31/16
Sailing International Limited
Shenzhen Formers Printing Co., Ltd.
Suzhou Xiandai Paper Production Co
The People's Republic of China: Monosodium Glutamate, A-570-992 | 11/1/15-10/31/16
Anhui Fresh Taste International Trade Co., Ltd.
Baoji Fufeng Biotechnologies Co., Ltd.
Blu Logistics (China) Co., Ltd.
Bonroy Group Limited
Forehigh Trade and Industry Co., Ltd.
Fujian Province Jianyang Wuyi MSG Co., Ltd.
Golden Banyan Foodstuffs Industry Co., Ltd.
Henan Lotus Flower Gourmet Powder Co.
Hong Kong Sungiven International Food Co., Limited
Hulunbeier Northeast Fufeng Biotechnologies Co., Ltd.
K&S Industry Limited
King Cheong Hong International
Langfang Meihua Bio-Technology Co., Ltd.
Liangshan Linghua Biotechnology Co., Ltd.
Lotus Health Industry Holding Group
Meihua Group International Trading (Hong Kong) Limited
Meihua Holdings Group Co., Ltd., Bazhou Branch
Neimenggu Fufeng Biotechnologies Co., Ltd.
Pudong Prime Int'l Logistics, Inc.
Qinhuangdao Xingtai Trade Co., Ltd.
S.D. Linghua M.S.G. Incorporated Co.
Shandong Linghua Monosodium Glutamate Incorporated Company
Shanghai Totole Food Ltd.
Shijiazhuang Standard Imp & Exp Co., Ltd.
Sunrise (HK) International Enterprise Limited
Tongliao Meihua Biological Sci-Tech Co., Ltd.
Zhejiang Medicines & Health
The People's Republic of China: Passenger Vehicle and Light Truck Tires, A-570-016 | 1/27/15-7/31/16
Maxon Int'l Co., Limited ⁷
Nankang International Co., Ltd.⁸
Nankang Rubber Tire Corp., Ltd.⁹
The People's Republic of China: Polyethylene Terephthalate Film, and Strip, A-570-924 | 11/1/15-10/31/16
Fuwei Films (Shandong) Co., Ltd.
Shaoxing Xiangyu Green Packing Co., Ltd.
Sichuan Dongfang Insulating Material Co., Ltd.
Tianjin Wanhua Co., Ltd.
The People's Republic of China: Seamless Refined Copper Pipe and Tube, A-570-964 | 11/1/15-10/31/16
China Hailiang Metal Trading
Foshan Hua Hong Copper Tube Co., Ltd.
Golden Dragon Precise Copper Tube Group, Inc.
Golden Dragon Holding (Hong Kong) International Co., Ltd. & Hong Kong GD Trading Co., Ltd.
Guilin Lijia Metals Co., Ltd.
Hong Kong Hailing Metal
Ningbo Jintian Copper Tube Co., Ltd.
Shanghai Hailing Copper Co., Ltd.
Shanghai Hailing Metal Trading Limited
Sinochem Ningbo Ltd. & Sinochem Ningbo Import & Export Co., Ltd.
Taicang City Jinxin Copper Tube Co., Ltd.
Zhejang Jiahe Pipe Inc.
Zhejiang Hailing Co., Ltd.
Zhejiang Naile Copper Co., Ltd.
United Arab Emirates: Polyethylene Terephthalate (PET) Film, Sheet and Strip, A-520-803 | 11/1/15-10/31/16
Flex Middle East FZE
Uflex Limited
JBF RAK LLC
Countervailing Duty Proceedings
The People's Republic of China: Aluminum Extrusions ¹⁰, C-570-968 | 1/1/15-12/31/15
Changzhou Jinxi Machinery Co., Ltd.
The People's Republic of China: Certain Magnesia Carbon Bricks ¹¹, C-570-955 | 1/1/15-12/31/15
Dashiqiao City Guancheng Refractor Co., Ltd. (aka Dashiqiao City Guancheng Refractory Co., Ltd.)
Yingkou Dalmond Refractories Co., Ltd.
The People's Republic of China: Chlorinated Isocyanuates, C-570-991 | 1/1/15-12/31/15
Hebei Jiheng Chemical Co., Ltd.
Heze Huayi Chemical Co., Ltd.
Juancheng Kangtai Chemical Co., Ltd.
The People's Republic of China: Lightweight Thermal Paper, C-570-921 | 1/1/15-12/31/15
Sailing International Limited
Shenzhen Formers Printing Co., Ltd.
Suzhou Xiandai Paper Production Co
Turkey: Steel Concrete Reinforcing Bar, C-489-819 | 1/1/15-12/31/15
Acemar International Limited
Agir Haddecilik Makina Sanayi Ve Ti
As Gaz Sinai ve Tibbi Azlar AS.
Asil Celik Sanayi ve Ticaret AS.
Colakoglu Dis Ticaret A.S.
Colakoglu Metalurji A.S.
Duferco Celik Ticaret Limited
Duferco Investment Services SA
Ege Celik Endustrisi Sanayi ve Ticaret AS.
Ekinciler Demir ve Celik Sanayi Anonim Sirketi
Habas Sinai ve Tibbi Gazlar Istihsal Endustrisi A.S.
Icdas Celik Enerji Tersane ve Ulasim Sanayi A.S.
Izmir Demir Celik Sanayi A.S.
Kaptan Demir Celik Industrisi ve Ticaret A.S.
Kaptan Metal Dis Tic Ve Nak AS
Kocaer Haddecilik Sanayi Ve Ticar L
Mettech Metalurji Madencilik Muhendislik Uretim Danismanlik ve Ticaret Limited Sirketi
MMZ Onur Boru Profil A.S.
Ozkan Demir Celik Sanayi A.S.
Wilmar Europe Trading BV

⁴ Hyundai Steel Company is the successor-in-interest to Hyundai HYSCO, for which we received a review request. See Notice of Final Results of Antidumping Duty Changed Circumstances Review: Circular Welded Non-Alloy Steel Pipe From the Republic of Korea, 81 FR 42653 (June 30, 2016), and Circular Welded Non-Alloy Steel Pipe From the Republic of Korea: Preliminary Results of Antidumping Duty Administrative Review; 2014-2015, 81 FR 89059 (December 9, 2016), and accompanying Preliminary Decision Memorandum at 1, n. 3.

⁵ We treated Jiangsu Fengtai Diamond Tool Manufacture Co., Ltd., Jiangsu Fengtai Tools Co., Ltd., and Jiangsu Fengtai Sawing Industry Co., Ltd., as a single entity. See Diamond Sawblades and Parts Thereof From the People's Republic of China: Final Results of Antidumping Duty Administrative Review; 2013-2014, 81 FR 38673, 38674 (June 14, 2016), and Diamond Sawblades and Parts Thereof From the People's Republic of China: Preliminary Results of Antidumping Duty Administrative Review; 2014-2015, 81 FR 89045, 89046 n.11 (December 9, 2016).

⁶ Id.

⁷ The company name listed was misspelled in the initiation notice that published on October 14, 2016 (81 FR 71065). The correct spelling is listed above.

⁸ The Department should have initiated a review for the company listed above in the initiation notice that published on October 14, 2016 (81 FR 71065).

⁹ The Department should have initiated a review for the company listed above in the initiation notice that published on October 14, 2016 (81 FR 71065).

¹⁰ The Department should have initiated a review for the company listed above in the initiation notice that published on July 7, 2016 (81 FR 44260).

¹¹ The two company names listed were misspelled in the initiation notice that published on November 9, 2016 (81 FR 78778). The correct spellings are listed above.

Suspension Agreements

None.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: The definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in this segment.

Any party submitting factual information in an antidumping duty or countervailing duty proceeding must certify to the accuracy and completeness of that information.¹² Parties are hereby reminded that revised certification requirements are in effect for company/government officials as well as their representatives. All segments of any antidumping duty or countervailing duty proceedings initiated on or after August 16, 2013, should use the formats for the revised certifications provided at the end of the Final Rule.¹³ The Department intends to reject factual submissions in any proceeding segments if the submitting party does not comply with applicable revised certification requirements.

¹² See section 782(b) of the Act.

¹³ See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf.

Revised Extension of Time Limits Regulation

On September 20, 2013, the Department modified its regulation concerning the extension of time limits for submissions in antidumping and countervailing duty proceedings: Final Rule, 78 FR 57790 (September 20, 2013). The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: January 9, 2017.
Gary Taverman,
Associate Deputy Assistant Secretary for Antidumping and Countervailing Duty Operations.

[FR Doc. 2017-00674 Filed 1-12-17; 8:45 am]

BILLING CODE 3510-DS-P